DEPARTMENT OF THE INTERIOR

Bureau of Land Management

[LLWO210000.16X.L11100000.PH0000 LXSISGST0000]

Extension of Public Comment Period and Schedule of Public Scoping Meetings and Public Meetings for the Proposed Withdrawal of Sagebrush Focal Areas in Idaho, Montana, Nevada, Oregon, Utah, and Wyoming, and an Associated Environmental Impact Statement; Correction

AGENCY: Bureau of Land Management, Interior.

ACTION: Notice of correction.

SUMMARY: This action corrects the first date in a table that published on November 13, 2015 (80 FR 70252). The table announces the dates, times, and locations of public meetings.

On page 70252, column 1 of the table, line 2, which reads “Dec. 14, 2051,” is hereby corrected to read “Dec. 14, 2015.”

Brian Amme,
Acting Division Chief, Decision Support, Planning and NEPA.

[FR Doc. 2015-30029 Filed 11-24-15; 8:45 am]

BILLING CODE 4310-84-P